DEPARTMENT OF STATE

[Public Notice 9834]

60-Day Notice of Proposed Information Collection: Generic Clearance for the Collection of Qualitative Feedback on Agency Service Delivery

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 18, 2017.

ADDRESSES: You may submit comments by any of the following methods:

• Web: Persons with access to the Internet may comment on this notice by going to www.Regulations.gov. You can search for the document by entering “Docket Number: DOS-2016-0081” in the Search field. Then click the “Comment Now” button and complete the comment form.

• Email: watkinspk@state.gov.

You must include the DS form number (if applicable), information collection title, and the OMB control number in any correspondence.

FOR FURTHER INFORMATION CONTACT: Direct requests for additional information regarding the collection listed in this notice, including requests for copies of the proposed collection instrument and supporting documents, to Pamela Watkins, Department of State, Office of Directives Management, 1800 G Street NW., Suite 2400, Washington, DC 20522-2202 who may be reached at watkinspk@state.gov.

SUPPLEMENTARY INFORMATION: • Title of Information Collection: Generic Clearance for the Collection of Qualitative Feedback on Agency Service Delivery.

• OMB Control Number: 1405-0193.

• Type of Request: Extension of a Currently Approved Collection.

• Originating Office: Office of Directives Management, A/GIS/DIR.

• Form Number: Various public surveys.

• Respondents: Individuals responding to Department of State customer service evaluation requests.

• Estimated Number of Respondents: 325,000.

• Estimated Number of Responses: 325,000.

• Average Time per Response: 3.5 minutes.

• Total Estimated Burden Time: 18,958 annual hours.

• Frequency: Once per request.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collection activity will collect qualitative customer feedback in an efficient, timely manner, in accordance with the Administration's commitment to improving service delivery. This qualitative feedback will provide insights into customer perceptions, experiences and expectations, provide an early warning of issues with service, or focus attention on areas where communication, training or changes in operations might improve delivery of products or services. These collections will allow for ongoing, collaborative and actionable communications between the Agency and its customers. It will also allow feedback to contribute directly to the improvement of program management.

Feedback collected under this generic clearance will provide useful information, but it will not yield data that can be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Methodology

Respondents will fill out a brief customer survey after completing their interaction with a Department Office or Embassy. Surveys are designed to gather feedback on the customer's experiences.

Janet Freer,
Director, Office of Directives Management, Department of State.

[FR Doc. 2017-03227 Filed 2-16-17; 8:45 am]

BILLING CODE 4710-24-P